DEPARTMENT OF AGRICULTURE

Agricultural Marketing Service

7 CFR Part 1205

[CN-00-002]

2000 Amendment to Cotton Board Rules and Regulations Adjusting Supplemental Assessment on Imports

AGENCY: Agricultural Marketing Service, USDA.

ACTION: Final rule.

SUMMARY: The Agricultural Marketing Service (AMS) is amending the Cotton Board Rules and Regulations by lowering the value assigned to imported cotton for the purpose of calculating supplemental assessments collected for use by the Cotton Research and Promotion Program. This action is required by this regulation on an annual basis to ensure that the assessments collected on imported cotton and the cotton content of imported products remain similar to those paid on domestically produced cotton.

EFFECTIVE DATE: May 31, 2000.

FOR FURTHER INFORMATION CONTACT: Whitney Rick, (202) 720-2259.

SUPPLEMENTARY INFORMATION:

Executive Order 12866

This rule has been determined to be “non significant” for purposes of Executive Order 12866, and, therefore, has not been reviewed by the Office of Management and Budget.

Executive Order 12988

This rule has been reviewed under Executive Order 12988, Civil Justice Reform. It is not intended to have retroactive effect. This rule would not preempt any state or local laws, regulations, or policies, unless they present an irreconcilable conflict with this rule.

The Cotton Research and Promotion Act provides that administrative proceedings must be exhausted before parties may file suit in court. Under Section 12 of the Act, any person subject to an order may file with the Secretary a petition stating that the order, any provision of the plan, or any obligation imposed in connection with the order is not in accordance with law and requesting a modification of the order or to be exempted therefrom. Such person is afforded the opportunity for a hearing on the petition. After the hearing, the Secretary would rule on the petition. The Act provides that the District Court of the United States in any district in which the person is an inhabitant, or has his principal place of business, has jurisdiction to review the Secretary's ruling, provided a complaint is filed within 20 days from the date of the entry of ruling.

Regulatory Flexibility Act

Pursuant to requirements set forth in the Regulatory Flexibility Act (RFA) (5 U.S.C. 601 et seq.) AMS has considered the economic impact of this action on small entities and has determined that its implementation will not have a significant economic impact on a substantial number of small businesses.

There are an estimated 10,000 importers who are presently subject to rules and regulations issued pursuant to the Cotton Research and Promotion Order. This rule would affect importers of cotton and cotton-containing products. The majority of these importers are small businesses under the criteria established by the Small Business Administration. This rule would lower the assessments paid by the importers under the Cotton Research and Promotion Order. Even though the assessment will be lowered, the decrease is small and will not significantly affect small businesses.

The current assessment on imported cotton is $0.011397 per kilogram of imported cotton. The amended assessment is $0.009833, a decrease of $0.001564 or a 13.72 percent decrease from the current assessment. From January through December 1999 approximately $23 million was collected at the $0.011397 per kilogram rate. Should the volume of cotton products imported into the U.S. remain at the same level in 2000, one could expect the decreased assessment to generate approximately $19.8 million or a 13.72 percent decrease from 1999.

Paperwork Reduction

In compliance with Office of Management and Budget (OMB) regulations (5 CFR part 1320) which implement the Paperwork Reduction Act (PRA) (44 U.S.C. 3501 et seq.) the information collection requirements contained in the regulation to be amended have been previously approved by OMB and were assigned control number 0581-0093.

Background

The Cotton Research and Promotion Act Amendments of 1990 enacted by Congress under Subtitle G of Title XIX of the Food, Agriculture, Conservation and Trade Act of 1990 on November 28, 1990, contained two provisions that authorized changes in the funding procedures for the Cotton Research and Promotion Program.

These provisions are: (1) The assessment of imported cotton and cotton products; and (2) termination of the right of cotton producers to demand a refund of assessments.

An amended Cotton Research and Promotion Order was approved by producers and importers voting in a referendum held July 17-26, 1991 and the amended Order was published in the Federal Register on December 10, 1991, (56 FR 64470). Proposed rules implementing the amended Order were published in the Federal Register on December 17, 1991, (56 FR 65450). Implementing rules were published on July 1 and 2, 1992, (57 FR 29181) and (57 FR 29431), respectively.

This rule will decrease the value assigned to imported cotton in the Cotton Board Rules and Regulations (7 CFR 1205.510 (b) (2)). This value is used to calculate supplemental assessments on imported cotton and the cotton content of imported products. Supplemental assessments are the second part of a two-part assessment. The first part of the assessment is levied on the weight of cotton produced or imported at a rate of $1 per bale of cotton which is equivalent to 500 pounds or $1 per 226.8 kilograms of cotton.

Supplemental assessments are levied at a rate of five-tenths of one percent of the value of domestically produced cotton, imported cotton, and the cotton content of imported products. The agency has adopted the practice of assigning the calendar year weighted average price received by U.S. farmers for Upland cotton to represent the value of imported cotton. This is done so that the assessment on domestically produced cotton and the assessment on imported cotton and the cotton content of imported products remain similar. The source for the average price statistic is “Agricultural Prices”, a publication of the National Agricultural Statistics Service (NASS) of the Department of Agriculture. Use of the weighted average price figure in the calculation of supplemental assessments on imported cotton and the cotton content of imported products yields an assessment that approximates assessments paid on domestically produced cotton in the prior calendar year.

The current value of imported cotton as published in the Federal Register (64 FR 30236) on June 7, 1999, for the purpose of calculating supplemental assessments on imported cotton is $1.3977 per kilogram. This number was calculated using the annual weighted average price received by farmers for Upland cotton during the calendar year 1998 which was $0.634 per pound and multiplying by the conversion factor 2.2046. Using the Average Weighted Price Received by U.S. farmers for Upland cotton for the calendar year 1999, which is $0.492 per pound, the new value of imported cotton is $1.0847 per kilogram. The amended value is $0.313 per kilogram less than the previous value.

An example of the complete assessment formula and how the various figures are obtained is as follows:

One bale is equal to 500 pounds.

One kilogram equals 2.2046 pounds.

One pound equals 0.453597 kilograms.

One Dollar Per Bale Assessment Converted to Kilograms

A 500 pound bale equals 226.8 kg. (500 × .453597).

$1 per bale assessment equals $0.002000 per pound (1 ÷ 500) or $0.004409 per kg. (1 ÷ 226.8).

Supplemental Assessment of 5/10 of One Percent of the Value of the Cotton Converted to Kilograms.

The 1999 calendar year weighted average price received by producers for Upland cotton is $0.492 per pound or $1.0847 per kg. (0.492 × 2.2046) = 1.0847.

Five tenths of one percent of the average price in kg. equals $0.005424 per kg. (1.0847 × .005).

Total Assessment

The total assessment per kilogram of raw cotton in obtained by adding the $1 per bale equivalent assessment of $0.004409 per kg. and the supplemental assessment $0.005424 per kg. which equals $0.009833 per kg.

The current assessment on imported cotton is $0.011397 per kilogram of imported cotton. The amended assessment is $0.009833, a decrease of $0.001564 per kilogram. This decrease reflects the decrease in the Average Weighted Price of Upland Cotton Received by U.S. Farmers during the period January through December 1999.

Since the value of cotton is the basis of the supplemental assessment calculation and the figures shown in the right hand column of the Import Assessment Table 1205.510 (b)(3) are a result of such a calculation, the figures in this table have been revised. These figures indicate the total assessment per kilogram due for each Harmonized Tariff Schedule (HTS) number subject to assessment.

A proposed rule with a request for comments was published in the Federal Register (65 FR 12141) on March 8, 2000. No comments were received during the comment period (March 8 through April 7, 2000).

List of Subjects in 7 CFR Part 1205

Advertising, Agricultural research, Cotton, Marketing agreements, Reporting and recordkeeping requirements.

For the reasons set forth in the preamble, 7 CFR part 1205 is amended as follows:

PART 1205—COTTON RESEARCH AND PROMOTION

1. The authority citation for Part 1205 continues to read as follows:

Authority: 7 U.S.C. 2101-2118.

2. In § 1205.510, paragraph (b)(2) and the table in paragraph (b)(3)(ii) are revised to read as follows:

§ 1205.510 Levy of assessments.

* * * * *

(b) * * *

(1) * * *

(2) The 12-month average of monthly weighted average prices received by U.S. farmers will be calculated annually. Such weighted average will be used as the value of imported cotton for the purpose of levying the supplemental assessment on imported cotton and will be expressed in kilograms. The value of imported cotton for the purpose of levying this supplemental assessment is $0.9833 per kilogram.

(3) * * *

(I) * * *

(ii) * * *

Import Assessment Table
[Raw Cotton Fiber]
HTS No. | Conv. fact. | Cents/kg.
5201000500 | 0 | 0.9833
5201001200 | 0 | 0.9833
5201001400 | 0 | 0.9833
5201001800 | 0 | 0.9833
5201002200 | 0 | 0.9833
5201002400 | 0 | 0.9833
5201002800 | 0 | 0.9833
5201003400 | 0 | 0.9833
5201003800 | 0 | 0.9833
5204110000 | 1.1111 | 1.0925
5204200000 | 1.1111 | 1.0925
5205111000 | 1.1111 | 1.0925
5205112000 | 1.1111 | 1.0925
5205121000 | 1.1111 | 1.0925
5205122000 | 1.1111 | 1.0925
5205131000 | 1.1111 | 1.0925
5205132000 | 1.1111 | 1.0925
5205141000 | 1.1111 | 1.0925
5205210020 | 1.1111 | 1.0925
5205210090 | 1.1111 | 1.0925
5205220020 | 1.1111 | 1.0925
5205220090 | 1.1111 | 1.0925
5205230020 | 1.1111 | 1.0925
5205230090 | 1.1111 | 1.0925
5205240020 | 1.1111 | 1.0925
5205240090 | 1.1111 | 1.0925
5205310000 | 1.1111 | 1.0925
5205320000 | 1.1111 | 1.0925
5205330000 | 1.1111 | 1.0925
5205340000 | 1.1111 | 1.0925
5205410020 | 1.1111 | 1.0925
5205410090 | 1.1111 | 1.0925
5205420020 | 1.1111 | 1.0925
5205420090 | 1.1111 | 1.0925
5205440020 | 1.1111 | 1.0925
5205440090 | 1.1111 | 1.0925
5206120000 | 0.5556 | 0.5463
5206130000 | 0.5556 | 0.5463
5206140000 | 0.5556 | 0.5463
5206220000 | 0.5556 | 0.5463
5206230000 | 0.5556 | 0.5463
5206240000 | 0.5556 | 0.5463
5206310000 | 0.5556 | 0.5463
5207100000 | 1.1111 | 1.0925
5207900000 | 0.5556 | 0.5463
5208112020 | 1.1455 | 1.1264
5208112040 | 1.1455 | 1.1264
5208112090 | 1.1455 | 1.1264
5208114020 | 1.1455 | 1.1264
5208114060 | 1.1455 | 1.1264
5208114090 | 1.1455 | 1.1264
5208118090 | 1.1455 | 1.1264
5208124020 | 1.1455 | 1.1264
5208124040 | 1.1455 | 1.1264
5208124090 | 1.1455 | 1.1264
5208126020 | 1.1455 | 1.1264
5208126040 | 1.1455 | 1.1264
5208126060 | 1.1455 | 1.1264
5208126090 | 1.1455 | 1.1264
5208128020 | 1.1455 | 1.1264
5208128090 | 1.1455 | 1.1264
5208130000 | 1.1455 | 1.1264
5208192020 | 1.1455 | 1.1264
5208192090 | 1.1455 | 1.1264
5208194020 | 1.1455 | 1.1264
5208194090 | 1.1455 | 1.1264
5208196020 | 1.1455 | 1.1264
5208196090 | 1.1455 | 1.1264
5208224040 | 1.1455 | 1.1264
5208224090 | 1.1455 | 1.1264
5208226020 | 1.1455 | 1.1264
5208226060 | 1.1455 | 1.1264
5208228020 | 1.1455 | 1.1264
5208230000 | 1.1455 | 1.1264
5208292020 | 1.1455 | 1.1264
5208292090 | 1.1455 | 1.1264
5208294090 | 1.1455 | 1.1264
5208296090 | 1.1455 | 1.1264
5208298020 | 1.1455 | 1.1264
5208312000 | 1.1455 | 1.1264
5208321000 | 1.1455 | 1.1264
5208323020 | 1.1455 | 1.1264
5208323040 | 1.1455 | 1.1264
5208323090 | 1.1455 | 1.1264
5208324020 | 1.1455 | 1.1264
5208324040 | 1.1455 | 1.1264
5208325020 | 1.1455 | 1.1264
5208330000 | 1.1455 | 1.1264
5208392020 | 1.1455 | 1.1264
5208392090 | 1.1455 | 1.1264
5208394090 | 1.1455 | 1.1264
5208396090 | 1.1455 | 1.1264
5208398020 | 1.1455 | 1.1264
5208412000 | 1.1455 | 1.1264
5208416000 | 1.1455 | 1.1264
5208418000 | 1.1455 | 1.1264
5208421000 | 1.1455 | 1.1264
5208423000 | 1.1455 | 1.1264
5208424000 | 1.1455 | 1.1264
5208425000 | 1.1455 | 1.1264
5208430000 | 1.1455 | 1.1264
5208492000 | 1.1455 | 1.1264
5208494020 | 1.1455 | 1.1264
5208494090 | 1.1455 | 1.1264
5208496010 | 1.1455 | 1.1264
5208496090 | 1.1455 | 1.1264
5208498090 | 1.1455 | 1.1264
5208512000 | 1.1455 | 1.1264
5208516060 | 1.1455 | 1.1264
5208518090 | 1.1455 | 1.1264
5208523020 | 1.1455 | 1.1264
5208523045 | 1.1455 | 1.1264
5208523090 | 1.1455 | 1.1264
5208524020 | 1.1455 | 1.1264
5208524045 | 1.1455 | 1.1264
5208524065 | 1.1455 | 1.1264
5208525020 | 1.1455 | 1.1264
5208530000 | 1.1455 | 1.1264
5208592025 | 1.1455 | 1.1264
5208592095 | 1.1455 | 1.1264
5208594090 | 1.1455 | 1.1264
5208596090 | 1.1455 | 1.1264
5209110020 | 1.1455 | 1.1264
5209110035 | 1.1455 | 1.1264
5209110090 | 1.1455 | 1.1264
5209120020 | 1.1455 | 1.1264
5209120040 | 1.1455 | 1.1264
5209190020 | 1.1455 | 1.1264
5209190040 | 1.1455 | 1.1264
5209190060 | 1.1455 | 1.1264
5209190090 | 1.1455 | 1.1264
5209210090 | 1.1455 | 1.1264
5209220020 | 1.1455 | 1.1264
5209220040 | 1.1455 | 1.1264
5209290040 | 1.1455 | 1.1264
5209290090 | 1.1455 | 1.1264
5209313000 | 1.1455 | 1.1264
5209316020 | 1.1455 | 1.1264
5209316035 | 1.1455 | 1.1264
5209316050 | 1.1455 | 1.1264
5209316090 | 1.1455 | 1.1264
5209320020 | 1.1455 | 1.1264
5209320040 | 1.1455 | 1.1264
5209390020 | 1.1455 | 1.1264
5209390040 | 1.1455 | 1.1264
5209390060 | 1.1455 | 1.1264
5209390080 | 1.1455 | 1.1264
5209390090 | 1.1455 | 1.1264
5209413000 | 1.1455 | 1.1264
5209416020 | 1.1455 | 1.1264
5209416040 | 1.1455 | 1.1264
5209420020 | 1.0309 | 1.0137
5209420040 | 1.0309 | 1.0137
5209430030 | 1.1455 | 1.1264
5209430050 | 1.1455 | 1.1264
5209490020 | 1.1455 | 1.1264
5209490090 | 1.1455 | 1.1264
5209516035 | 1.1455 | 1.1264
5209516050 | 1.1455 | 1.1264
5209520020 | 1.1455 | 1.1264
5209590025 | 1.1455 | 1.1264
5209590040 | 1.1455 | 1.1264
5209590090 | 1.1455 | 1.1264
5210114020 | 0.6873 | 0.6758
5210114040 | 0.6873 | 0.6758
5210116020 | 0.6873 | 0.6758
5210116040 | 0.6873 | 0.6758
5210116060 | 0.6873 | 0.6758
5210118020 | 0.6873 | 0.6758
5210120000 | 0.6873 | 0.6758
5210192090 | 0.6873 | 0.6758
5210214040 | 0.6873 | 0.6758
5210216020 | 0.6873 | 0.6758
5210216060 | 0.6873 | 0.6758
5210218020 | 0.6873 | 0.6758
5210314020 | 0.6873 | 0.6758
5210314040 | 0.6873 | 0.6758
5210316020 | 0.6873 | 0.6758
5210318020 | 0.6873 | 0.6758
5210414000 | 0.6873 | 0.6758
5210416000 | 0.6873 | 0.6758
5210418000 | 0.6873 | 0.6758
5210498090 | 0.6873 | 0.6758
5210514040 | 0.6873 | 0.6758
5210516020 | 0.6873 | 0.6758
5210516040 | 0.6873 | 0.6758
5210516060 | 0.6873 | 0.6758
5211110090 | 0.6873 | 0.6758
5211120020 | 0.6873 | 0.6758
5211190020 | 0.6873 | 0.6758
5211190060 | 0.6873 | 0.6758
5211210025 | 0.6873 | 0.6758
5211210035 | 0.4165 | 0.4095
5211210050 | 0.6873 | 0.6758
5211290090 | 0.6873 | 0.6758
5211320020 | 0.6873 | 0.6758
5211390040 | 0.6873 | 0.6758
5211390060 | 0.6873 | 0.6758
5211490020 | 0.6873 | 0.6758
5211490090 | 0.6873 | 0.6758
5211590025 | 0.6873 | 0.6758
5212146090 | 0.9164 | 0.9011
5212156020 | 0.9164 | 0.9011
5212216090 | 0.9164 | 0.9011
5509530030 | 0.5556 | 0.5463
5509530060 | 0.5556 | 0.5463
5513110020 | 0.4009 | 0.3942
5513110040 | 0.4009 | 0.3942
5513110060 | 0.4009 | 0.3942
5513110090 | 0.4009 | 0.3942
5513120000 | 0.4009 | 0.3942
5513130020 | 0.4009 | 0.3942
5513210020 | 0.4009 | 0.3942
5513310000 | 0.4009 | 0.3942
5514120020 | 0.4009 | 0.3942
5516420060 | 0.4009 | 0.3942
5516910060 | 0.4009 | 0.3942
5516930090 | 0.4009 | 0.3942
5601210010 | 1.1455 | 1.1264
5601210090 | 1.1455 | 1.1264
5601300000 | 1.1455 | 1.1264
5602109090 | 0.5727 | 0.5631
5602290000 | 1.1455 | 1.1264
5602906000 | 0.526 | 0.5172
5604900000 | 0.5556 | 0.5463
5607902000 | 0.8889 | 0.8741
5608901000 | 1.1111 | 1.0925
5608902300 | 1.1111 | 1.0925
5609001000 | 1.1111 | 1.0925
5609004000 | 0.5556 | 0.5463
5701104000 | 0.0556 | 0.055
5701109000 | 0.1111 | 0.1092
5701901010 | 1.0444 | 1.027
5702109020 | 1.1 | 1.0816
5702312000 | 0.0778 | 0.077
5702411000 | 0.0722 | 0.071
5702412000 | 0.0778 | 0.077
5702421000 | 0.0778 | 0.077
5702913000 | 0.0889 | 0.087
5702991010 | 1.1111 | 1.0925
5702991090 | 1.1111 | 1.0925
5703900000 | 0.4489 | 0.4414
5801210000 | 1.1455 | 1.1264
5801230000 | 1.1455 | 1.1264
5801250010 | 1.1455 | 1.1264
5801250020 | 1.1455 | 1.1264
5801260020 | 1.1455 | 1.1264
5802190000 | 1.1455 | 1.1264
5802300030 | 0.5727 | 0.5631
5804291000 | 1.1455 | 1.1264
5806200010 | 0.3534 | 0.3475
5806200090 | 0.3534 | 0.3475
5806310000 | 1.1455 | 1.1264
5806400000 | 0.4296 | 0.4224
5808107000 | 0.5727 | 0.5631
5808900010 | 0.5727 | 0.5631
5811002000 | 1.1455 | 1.1264
6001106000 | 1.1455 | 1.1264
6001210000 | 0.8591 | 0.8448
6001220000 | 0.2864 | 0.2816
6001910010 | 0.8591 | 0.8448
6001910020 | 0.8591 | 0.8448
6001920020 | 0.2864 | 0.2816
6001920030 | 0.2864 | 0.2816
6001920040 | 0.2864 | 0.2816
6002203000 | 0.8681 | 0.8536
6002206000 | 0.2894 | 0.2846
6002420000 | 0.8681 | 0.8536
6002430010 | 0.2894 | 0.2846
6002430080 | 0.2894 | 0.2846
6002921000 | 1.1574 | 1.1381
6002930040 | 0.1157 | 0.1138
6002930080 | 0.1157 | 0.1138
6101200010 | 1.0094 | 0.9925
6101200020 | 1.0094 | 0.9925
6102200010 | 1.0094 | 0.9925
6102200020 | 1.0094 | 0.9925
6103421020 | 0.8806 | 0.8659
6103421040 | 0.8806 | 0.8659
6103421050 | 0.8806 | 0.8659
6103421070 | 0.8806 | 0.8659
6103431520 | 0.2516 | 0.2474
6103431540 | 0.2516 | 0.2474
6103431550 | 0.2516 | 0.2474
6103431570 | 0.2516 | 0.2474
6104220040 | 0.9002 | 0.8852
6104220060 | 0.9002 | 0.8852
6104320000 | 0.9207 | 0.9053
6104420010 | 0.9002 | 0.8852
6104420020 | 0.9002 | 0.8852
6104520010 | 0.9312 | 0.9156
6104520020 | 0.9312 | 0.9156
6104622006 | 0.8806 | 0.8659
6104622011 | 0.8806 | 0.8659
6104622016 | 0.8806 | 0.8659
6104622021 | 0.8806 | 0.8659
6104622026 | 0.8806 | 0.8659
6104622028 | 0.8806 | 0.8659
6104622030 | 0.8806 | 0.8659
6104622060 | 0.8806 | 0.8659
6104632006 | 0.3774 | 0.3711
6104632011 | 0.3774 | 0.3711
6104632026 | 0.3774 | 0.3711
6104632028 | 0.3774 | 0.3711
6104632030 | 0.3774 | 0.3711
6104632060 | 0.3774 | 0.3711
6104692030 | 0.3858 | 0.3794
6105100010 | 0.985 | 0.9686
6105100020 | 0.985 | 0.9686
6105100030 | 0.985 | 0.9686
6105202010 | 0.3078 | 0.3027
6105202030 | 0.3078 | 0.3027
6106100010 | 0.985 | 0.9686
6106100020 | 0.985 | 0.9686
6106100030 | 0.985 | 0.9686
6106202010 | 0.3078 | 0.3027
6106202030 | 0.3078 | 0.3027
6107110010 | 1.1322 | 1.1133
6107110020 | 1.1322 | 1.1133
6107120010 | 0.5032 | 0.4948
6107210010 | 0.8806 | 0.8659
6107220015 | 0.3774 | 0.3711
6107220025 | 0.3774 | 0.3711
6107910040 | 1.2581 | 1.2371
6108210010 | 1.2445 | 1.2237
6108210020 | 1.2445 | 1.2237
6108310010 | 1.1201 | 1.1014
6108310020 | 1.1201 | 1.1014
6108320010 | 0.2489 | 0.2447
6108320015 | 0.2489 | 0.2447
6108320025 | 0.2489 | 0.2447
6108910005 | 1.2445 | 1.2237
6108910015 | 1.2445 | 1.2237
6108910025 | 1.2445 | 1.2237
6108910030 | 1.2445 | 1.2237
6108920030 | 0.2489 | 0.2447
6109100005 | 0.9956 | 0.979
6109100007 | 0.9956 | 0.979
6109100009 | 0.9956 | 0.979
6109100012 | 0.9956 | 0.979
6109100014 | 0.9956 | 0.979
6109100018 | 0.9956 | 0.979
6109100023 | 0.9956 | 0.979
6109100027 | 0.9956 | 0.979
6109100037 | 0.9956 | 0.979
6109100040 | 0.9956 | 0.979
6109100045 | 0.9956 | 0.979
6109100060 | 0.9956 | 0.979
6109100065 | 0.9956 | 0.979
6109100070 | 0.9956 | 0.979
6109901007 | 0.3111 | 0.3059
6109901009 | 0.3111 | 0.3059
6109901049 | 0.3111 | 0.3059
6109901050 | 0.3111 | 0.3059
6109901060 | 0.3111 | 0.3059
6109901065 | 0.3111 | 0.3059
6109901090 | 0.3111 | 0.3059
6110202005 | 1.1837 | 1.1639
6110202010 | 1.1837 | 1.1639
6110202015 | 1.1837 | 1.1639
6110202020 | 1.1837 | 1.1639
6110202025 | 1.1837 | 1.1639
6110202030 | 1.1837 | 1.1639
6110202035 | 1.1837 | 1.1639
6110202040 | 1.1574 | 1.1381
6110202045 | 1.1574 | 1.1381
6110202065 | 1.1574 | 1.1381
6110202075 | 1.1574 | 1.1381
6110909022 | 0.263 | 0.2586
6110909024 | 0.263 | 0.2586
6110909030 | 0.3946 | 0.388
6110909040 | 0.263 | 0.2586
6110909042 | 0.263 | 0.2586
6111201000 | 1.2581 | 1.2371
6111202000 | 1.2581 | 1.2371
6111203000 | 1.0064 | 0.9896
6111205000 | 1.0064 | 0.9896
6111206010 | 1.0064 | 0.9896
6111206020 | 1.0064 | 0.9896
6111206030 | 1.0064 | 0.9896
6111206040 | 1.0064 | 0.9896
6111305020 | 0.2516 | 0.2474
6111305040 | 0.2516 | 0.2474
6112110050 | 0.7548 | 0.7422
6112120010 | 0.2516 | 0.2474
6112120030 | 0.2516 | 0.2474
6112120040 | 0.2516 | 0.2474
6112120050 | 0.2516 | 0.2474
6112120060 | 0.2516 | 0.2474
6112390010 | 1.1322 | 1.1133
6112490010 | 0.9435 | 0.9277
6114200005 | 0.9002 | 0.8852
6114200010 | 0.9002 | 0.8852
6114200015 | 0.9002 | 0.8852
6114200020 | 1.286 | 1.2645
6114200040 | 0.9002 | 0.8852
6114200046 | 0.9002 | 0.8852
6114200052 | 0.9002 | 0.8852
6114200060 | 0.9002 | 0.8852
6114301010 | 0.2572 | 0.2529
6114301020 | 0.2572 | 0.2529
6114303030 | 0.2572 | 0.2529
6115198010 | 1.0417 | 1.0243
6115929000 | 1.0417 | 1.0243
6115936020 | 0.2315 | 0.2276
6116101300 | 0.3655 | 0.3594
6116101720 | 0.8528 | 0.8386
6116926420 | 1.0965 | 1.0782
6116926430 | 1.2183 | 1.198
6116926440 | 1.0965 | 1.0782
6116928800 | 1.0965 | 1.0782
6117809510 | 0.9747 | 0.9584
6117809540 | 0.3655 | 0.3594
6201121000 | 0.948 | 0.9322
6201122010 | 0.8953 | 0.8803
6201122050 | 0.6847 | 0.6733
6201122060 | 0.6847 | 0.6733
6201134030 | 0.2633 | 0.2589
6201921000 | 0.9267 | 0.9112
6201921500 | 1.1583 | 1.139
6201922010 | 1.0296 | 1.0124
6201922021 | 1.2871 | 1.2656
6201922031 | 1.2871 | 1.2656
6201922041 | 1.2871 | 1.2656
6201922051 | 1.0296 | 1.0124
6201922061 | 1.0296 | 1.0124
6201931000 | 0.3089 | 0.3037
6201933511 | 0.2574 | 0.2531
6201933521 | 0.2574 | 0.2531
6201999060 | 0.2574 | 0.2531
6202121000 | 0.9372 | 0.9215
6202122010 | 1.1064 | 1.0879
6202122025 | 1.3017 | 1.28
6202122050 | 0.8461 | 0.832
6202122060 | 0.8461 | 0.832
6202134005 | 0.2664 | 0.262
6202134020 | 0.333 | 0.3274
6202921000 | 1.0413 | 1.0239
6202921500 | 1.0413 | 1.0239
6202922026 | 1.3017 | 1.28
6202922061 | 1.0413 | 1.0239
6202922071 | 1.0413 | 1.0239
6202931000 | 0.3124 | 0.3072
6202935011 | 0.2603 | 0.256
6202935021 | 0.2603 | 0.256
6203122010 | 0.1302 | 0.128
6203221000 | 1.3017 | 1.28
6203322010 | 1.2366 | 1.2159
6203322040 | 1.2366 | 1.2159
6203332010 | 0.1302 | 0.128
6203392010 | 1.1715 | 1.1519
6203399060 | 0.2603 | 0.256
6203422010 | 0.9961 | 0.9795
6203422025 | 0.9961 | 0.9795
6203422050 | 0.9961 | 0.9795
6203422090 | 0.9961 | 0.9795
6203424005 | 1.2451 | 1.2243
6203424010 | 1.2451 | 1.2243
6203424015 | 0.9961 | 0.9795
6203424020 | 1.2451 | 1.2243
6203424025 | 1.2451 | 1.2243
6203424030 | 1.2451 | 1.2243
6203424035 | 1.2451 | 1.2243
6203424040 | 0.9961 | 0.9795
6203424045 | 0.9961 | 0.9795
6203424050 | 0.9238 | 0.9084
6203424055 | 0.9238 | 0.9084
6203424060 | 0.9238 | 0.9084
6203431500 | 0.1245 | 0.1224
6203434010 | 0.1232 | 0.1211
6203434020 | 0.1232 | 0.1211
6203434030 | 0.1232 | 0.1211
6203434040 | 0.1232 | 0.1211
6203498045 | 0.249 | 0.2448
6204132010 | 0.1302 | 0.128
6204192000 | 0.1302 | 0.128
6204198090 | 0.2603 | 0.256
6204221000 | 1.3017 | 1.28
6204223030 | 1.0413 | 1.0239
6204223040 | 1.0413 | 1.0239
6204223050 | 1.0413 | 1.0239
6204223060 | 1.0413 | 1.0239
6204223065 | 1.0413 | 1.0239
6204292040 | 0.3254 | 0.32
6204322010 | 1.2366 | 1.2159
6204322030 | 1.0413 | 1.0239
6204322040 | 1.0413 | 1.0239
6204423010 | 1.2728 | 1.2515
6204423030 | 0.9546 | 0.9387
6204423040 | 0.9546 | 0.9387
6204423050 | 0.9546 | 0.9387
6204423060 | 0.9546 | 0.9387
6204522010 | 1.2654 | 1.2443
6204522030 | 1.2654 | 1.2443
6204522040 | 1.2654 | 1.2443
6204522070 | 1.0656 | 1.0478
6204522080 | 1.0656 | 1.0478
6204533010 | 0.2664 | 0.262
6204594060 | 0.2664 | 0.262
6204622010 | 0.9961 | 0.9795
6204622025 | 0.9961 | 0.9795
6204622050 | 0.9961 | 0.9795
6204624005 | 1.2451 | 1.2243
6204624010 | 1.2451 | 1.2243
6204624020 | 0.9961 | 0.9795
6204624025 | 1.2451 | 1.2243
6204624030 | 1.2451 | 1.2243
6204624035 | 1.2451 | 1.2243
6204624040 | 1.2451 | 1.2243
6204624045 | 0.9961 | 0.9795
6204624050 | 0.9961 | 0.9795
6204624055 | 0.9854 | 0.9689
6204624060 | 0.9854 | 0.9689
6204624065 | 0.9854 | 0.9689
6204633510 | 0.2546 | 0.2503
6204633530 | 0.2546 | 0.2503
6204633532 | 0.2437 | 0.2396
6204633540 | 0.2437 | 0.2396
6204692510 | 0.249 | 0.2448
6204692540 | 0.2437 | 0.2396
6204699044 | 0.249 | 0.2448
6204699046 | 0.249 | 0.2448
6204699050 | 0.249 | 0.2448
6205202015 | 0.9961 | 0.9795
6205202020 | 0.9961 | 0.9795
6205202025 | 0.9961 | 0.9795
6205202030 | 0.9961 | 0.9795
6205202035 | 1.1206 | 1.1019
6205202046 | 0.9961 | 0.9795
6205202050 | 0.9961 | 0.9795
6205202060 | 0.9961 | 0.9795
6205202065 | 0.9961 | 0.9795
6205202070 | 0.9961 | 0.9795
6205202075 | 0.9961 | 0.9795
6205302010 | 0.3113 | 0.3061
6205302030 | 0.3113 | 0.3061
6205302040 | 0.3113 | 0.3061
6205302050 | 0.3113 | 0.3061
6205302070 | 0.3113 | 0.3061
6205302080 | 0.3113 | 0.3061
6206100040 | 0.1245 | 0.1224
6206303010 | 0.9961 | 0.9795
6206303020 | 0.9961 | 0.9795
6206303030 | 0.9961 | 0.9795
6206303040 | 0.9961 | 0.9795
6206303050 | 0.9961 | 0.9795
6206303060 | 0.9961 | 0.9795
6206403010 | 0.3113 | 0.3061
6206403030 | 0.3113 | 0.3061
6206900040 | 0.249 | 0.2448
6207110000 | 1.0852 | 1.0671
6207199010 | 0.3617 | 0.3557
6207210010 | 1.1085 | 1.09
6207210030 | 1.1085 | 1.09
6207220000 | 0.3695 | 0.3633
6207911000 | 1.1455 | 1.1264
6207913010 | 1.1455 | 1.1264
6207913020 | 1.1455 | 1.1264
6208210010 | 1.0583 | 1.0406
6208210020 | 1.0583 | 1.0406
6208220000 | 0.1245 | 0.1224
6208911010 | 1.1455 | 1.1264
6208911020 | 1.1455 | 1.1264
6208913010 | 1.1455 | 1.1264
6209201000 | 1.1577 | 1.1384
6209203000 | 0.9749 | 0.9586
6209205030 | 0.9749 | 0.9586
6209205035 | 0.9749 | 0.9586
6209205040 | 1.2186 | 1.1982
6209205045 | 0.9749 | 0.9586
6209205050 | 0.9749 | 0.9586
6209303020 | 0.2463 | 0.2422
6209303040 | 0.2463 | 0.2422
6210109010 | 0.2291 | 0.2253
6210403000 | 0.0391 | 0.038
6210405020 | 0.4556 | 0.448
6211111010 | 0.1273 | 0.1252
6211111020 | 0.1273 | 0.1252
6211118010 | 1.1455 | 1.1264
6211118020 | 1.1455 | 1.1264
6211320007 | 0.8461 | 0.832
6211320010 | 1.0413 | 1.0239
6211320015 | 1.0413 | 1.0239
6211320030 | 0.9763 | 0.96
6211320060 | 0.9763 | 0.96
6211320070 | 0.9763 | 0.96
6211330010 | 0.3254 | 0.32
6211330030 | 0.3905 | 0.384
6211330035 | 0.3905 | 0.384
6211330040 | 0.3905 | 0.384
6211420010 | 1.0413 | 1.0239
6211420020 | 1.0413 | 1.0239
6211420025 | 1.1715 | 1.1519
6211420060 | 1.0413 | 1.0239
6211420070 | 1.1715 | 1.1519
6211430010 | 0.2603 | 0.256
6211430030 | 0.2603 | 0.256
6211430040 | 0.2603 | 0.256
6211430050 | 0.2603 | 0.256
6211430060 | 0.2603 | 0.256
6211430066 | 0.2603 | 0.256
6212105020 | 0.2412 | 0.2372
6212109010 | 0.9646 | 0.9485
6212109020 | 0.2412 | 0.2372
6212200020 | 0.3014 | 0.2964
6212900030 | 0.1929 | 0.1897
6213201000 | 1.1809 | 1.1612
6213202000 | 1.0628 | 1.0451
6213901000 | 0.4724 | 0.4645
6214900010 | 0.9043 | 0.8892
6216000800 | 0.2351 | 0.2312
6216001720 | 0.6752 | 0.6639
6216003800 | 1.2058 | 1.1857
6216004100 | 1.2058 | 1.1857
6217109510 | 1.0182 | 1.0012
6217109530 | 0.2546 | 0.2503
6301300010 | 0.8766 | 0.862
6301300020 | 0.8766 | 0.862
6302100005 | 1.1689 | 1.1494
6302100008 | 1.1689 | 1.1494
6302100015 | 1.1689 | 1.1494
6302215010 | 0.8182 | 0.8045
6302215020 | 0.8182 | 0.8045
6302217010 | 1.1689 | 1.1494
6302217020 | 1.1689 | 1.1494
6302217050 | 1.1689 | 1.1494
6302219010 | 0.8182 | 0.8045
6302219020 | 0.8182 | 0.8045
6302219050 | 0.8182 | 0.8045
6302222010 | 0.4091 | 0.4023
6302222020 | 0.4091 | 0.4023
6302313010 | 0.8182 | 0.8045
6302313050 | 1.1689 | 1.1494
6302315050 | 0.8182 | 0.8045
6302317010 | 1.1689 | 1.1494
6302317020 | 1.1689 | 1.1494
6302317040 | 1.1689 | 1.1494
6302317050 | 1.1689 | 1.1494
6302319010 | 0.8182 | 0.8045
6302319040 | 0.8182 | 0.8045
6302319050 | 0.8182 | 0.8045
6302322020 | 0.4091 | 0.4023
6302322040 | 0.4091 | 0.4023
6302402010 | 0.9935 | 0.9769
6302511000 | 0.5844 | 0.5746
6302512000 | 0.8766 | 0.862
6302513000 | 0.5844 | 0.5746
6302514000 | 0.8182 | 0.8045
6302600010 | 1.1689 | 1.1494
6302600020 | 1.052 | 1.0344
6302600030 | 1.052 | 1.0344
6302910005 | 1.052 | 1.0344
6302910015 | 1.1689 | 1.1494
6302910025 | 1.052 | 1.0344
6302910035 | 1.052 | 1.0344
6302910045 | 1.052 | 1.0344
6302910050 | 1.052 | 1.0344
6302910060 | 1.052 | 1.0344
6303110000 | 0.9448 | 0.929
6303910000 | 0.6429 | 0.6322
6304111000 | 1.0629 | 1.0451
6304190500 | 1.052 | 1.0344
6304191000 | 1.1689 | 1.1494
6304191500 | 0.4091 | 0.4023
6304192000 | 0.4091 | 0.4023
6304910020 | 0.9351 | 0.9195
6304920000 | 0.9351 | 0.9195
6505901540 | 0.181 | 0.178
6505902060 | 0.9935 | 0.9769
6505902545 | 0.5844 | 0.5746

* * * * *

Dated: April 24, 2000.
Kathleen A. Merrigan,
Administrator, Agricultural Marketing Service.

[FR Doc. 00-10709 Filed 4-28-00; 8:45 am]

BILLING CODE 3410-02-P